DEPARTMENT OF COMMERCE

National Oceanic and Atmospheric Administration

[I.D. 081105A]

Mid-Atlantic Fishery Management Council; Meeting

AGENCY: National Marine Fisheries Service (NMFS), National Oceanic and Atmospheric Administration (NOAA), Commerce.

ACTION: Notice of public meeting.

SUMMARY: The Mid-Atlantic Fishery Management Council's Scientific and Statistical Committee will hold a public meeting.

DATES: Tuesday, August 30, 2005, from 10 a.m. to 4 p.m.

ADDRESSES: Renaissance Philadelphia Airport, 500 Stevens Drive, Philadelphia, PA 19113; telephone 610-521-5900.

Council address: Mid-Atlantic Fishery Management Council, Room 2115, 300 S. New Street, Dover, DE 19904.

FOR FURTHER INFORMATION CONTACT: Daniel T. Furlong, Executive Director, Mid-Atlantic Fishery Management Council; telephone: 302-674-2331, ext. 19.

SUPPLEMENTARY INFORMATION: The purpose of this meeting is to solicit the Scientific and Statistical Committee's advice on technical information and management support tools, as well as, input on methods to acquire public assistance in goal setting for ecosystem based approaches to fisheries management.

Special Accommodations

This meeting is physically accessible to people with disabilities. Requests for sign language interpretation or other auxiliary aids should be directed to Jan Saunders (302-674-2331 ext: 18) at the Council Office at least 5 days prior to the meeting date.

Dated: August 15, 2005.
Alan D. Risenhoover,
Acting Director, Office of Sustainable Fisheries, National Marine Fisheries Service.

[FR Doc. E5-4512 Filed 8-17-05; 8:45 am]

BILLING CODE 3510-22-S